DEPARTMENT OF TRANSPORTATION

Federal Railroad Administration

[Docket No. FRA-2001-9270]

Petition for Waiver of Compliance; Extension of Comment Period

On April 6, 2001, the Federal Railroad Administration (FRA) published in the Federal Register (66 FR 18351) notice of the petition of Wabtec Railway Electronics (Wabtec) in which Wabtec seeks a permanent waiver of compliance from a provision of the “Railroad Power Brake and Drawbars” regulations regarding two-way end-of-train devices (49 CFR 232.23(f)(2)).

FRA invited interested parties to participate in this proceeding by submitting comments to the DOT Central Docket Management Facility by May 11, 2001. It has come to our attention that due to an administrative error on the part of the agency, an incomplete copy of Wabtec's petition was filed in the public docket (Docket No. FRA-2001-9270). That error has been corrected and a complete copy of Wabtec's submission is now filed in the docket as Document No. 5.

Inasmuch as interested parties may have had incomplete information on which to base comments in this proceeding, FRA is extending the comment period to July 11, 2001. Comments and other communications concerning this proceeding should be submitted to the Docket Clerk, DOT Central Docket Management Facility, Room PL-401, Nassif Building, 400 Seventh Street, SW., Washington, DC 20590-0001. Comments received by that date will be considered by FRA before final action is taken in this proceeding. All written communications concerning this proceeding are available for examination during regular business hours (9 a.m.-5 p.m.) at the DOT Central Docket Management Facility, Room PL-401, Nassif Building, 400 Seventh Street, SW., Washington, DC 20590-0001. All documents in the public docket are also available for inspection and copying at the docket facility's web site at http://dms.dot.gov.

Issued in Washington, DC on June 6, 2001.
Michael T. Haley,
Acting Chief Counsel.

[FR Doc. 01-14604 Filed 6-8-01; 8:45 am]

BILLING CODE 4910-06-P